DEPARTMENT OF THE INTERIOR

Bureau of Land Management

[OR-110-6332-AA; HAG01-0074]

Notice of Availability of the Hellgate Recreation Area Management Plan/Draft Environmental Impact Statement (DEIS) for the 27 mile section of the Rogue River from the mouth of the Applegate River to Grave Creek

AGENCY: Bureau of Land Management, Medford District Office, Grants Pass Resource Area.

SUMMARY: In accordance with Section 202 of the National Environmental Policy Act of 1969 and Section 202 of the Federal Land Policy and Management Act of 1976, a Recreation Area Management Plan and DEIS have been completed for a portion of the Medford District. The DEIS describes and analyzes future options for managing the 27 mile section of the Rogue River (from the mouth of the Applegate River to Grave Creek) in southern Josephine County, Oregon.

The need for action is based on BLM visitor use reports that show major increases in water-based visitor use activities, on a recreation use study, and on a scoping effort which identified visitor use conflicts. The purpose of the action is to ensure recreational use levels are in alignment with the purposes of the Wild and Scenic Rivers Act of October 2, 1968.

All of the recommend planning issues share one topic: The growth of different types of recreation use on the river, and how much recreation use can and should the river support. The identified issues are motorized boating, non-motorized float boating, non-mortorized boat angling, user fees, camping, trails, day-use areas, public access and visitor services.

The DEIS analyzes five alternatives ranging from fewer watercraft and less visitor use to maximum watercraft and visitor use. Open houses will be held on January 18, 2001, from 7 p.m. to 10 p.m. at the City of Grants Pass Council Chambers, 101 NW A. Street in Grants Pass, and on January 24, 2001, from 7 p.m. to 10 p.m. at the Medford District Office, 3040 Biddle Road, in Medford.

DATES: Comments will be accepted until February 24, 2001. Informal meetings may be scheduled before the comment period closes.

ADDRESSES: Comments should be addressed to Cori Cooper, Planning Team Leader, Grants Pass Resource Area, Bureau of Land Management, Medford District Office, 3040 Biddle Road, Medford, Oregon 97504. Individual copies of the DEIS may be obtained by contacting the Planning Team Leader.

Comments, including names and addresses, will be available for public review. Individual respondents may request confidentiality. If you wish to withhold your name and/or address from public review or from disclosure under the Freedom of Information Act, you must state this prominently at the beginning of your written comment. Such requests will be honored to the extent allowed by law.

Dated: January 9, 2000.
Abbie Jossie,
Field Manager, Grants Pass Resource Area.

[FR Doc. 01-1726 Filed 1-19-01; 8:45 am]

BILLING CODE 4310-33-M